OFFICE OF MANAGEMENT AND BUDGET

Draft Report to Congress on the Costs and Benefits of Federal Regulations

AGENCY: Office of Management and Budget, Executive Office of the President.

ACTION: Notice of extension of public comment period.

SUMMARY: On January 7, 2000, OMB published a notice of availability of the Draft Report to Congress on the Costs and Benefits of Federal Regulations. The comment period was scheduled to end on January 21, 2000. This notice extends the public comment period on the draft report to February 22, 2000.

DATES: Comment Due Date: February 22, 2000.

ADDRESSES: Comments on this draft report should be addressed to John Morrall, Office of Information and Regulatory Affairs, Office of Management and Budget, NEOB, Room 10235, 725 17th Street, NW, Washington, DC 20503.

You may submit comments by regular mail, by facsimile to (202) 395-6974, or by electronic mail to jmorrall@omb.eop.gov.

FOR FURTHER INFORMATION CONTACT: You can review the Report on the Internet at: “http://www.whitehouse.gov/omb/inforeg/index.html”. You may also request a copy from John Morrall, Office of Information and Regulatory Affairs, Office of Management and Budget, NEOB, Room 10235, 725 17th Street, NW, Washington, DC 20503. Telephone: (202) 395-7316. E-mail: jmorrall@omb.eop.gov.

SUPPLEMENTARY INFORMATION: On January 7, 2000, OMB published in the Federal Register (65 FR 1296) a notice of availability of the Draft Report to Congress on the Costs and Benefits of Federal Regulations. The comment period on the draft report was scheduled to end January 21, 2000. Members of the public and Congress have asked for additional time to allow the public a better opportunity to participate in the comment process. Accordingly, OMB has decided to extend the public comment period on the draft report to February 22, 2000.

John T. Spotila,
Administrator, Office of Information and Regulatory Affairs.

[FR Doc. 00-1860 Filed 1-26-00 8:45 am]

BILLING CODE 3110-01-M